Title 3—

The President

Executive Order 14346 of September 5, 2025

Modifying the Scope of Reciprocal Tariffs and Establishing Procedures for Implementing Trade and Security Agreements

By the authority vested in me as President by the Constitution and the laws of the United States of America, including the International Emergency Economic Powers Act (50 U.S.C. 1701 et seq.) (IEEPA), the National Emergencies Act (50 U.S.C. 1601 et seq.), section 232 of the Trade Expansion Act of 1962, as amended (19 U.S.C. 1862) (section 232), section 604 of the Trade Act of 1974, as amended (19 U.S.C. 2483), and section 301 of title 3, United States Code, it is hereby ordered:

Section 1. Background. In Executive Order 14257 of April 2, 2025 (Regulating Imports With a Reciprocal Tariff To Rectify Trade Practices That Contribute to Large and Persistent Annual United States Goods Trade Deficits), I found that conditions reflected in large and persistent annual U.S. goods trade deficits, including the consequences of those deficits, constitute an unusual and extraordinary threat to the national security and economy of the United States that has its source in whole or substantial part outside the United States. I declared a national emergency with respect to that threat, and to deal with that threat, I imposed certain ad valorem duties that I deemed necessary and appropriate. In Annex II to Executive Order 14257, I set forth a list of certain goods that, in my judgment, should not be subject to the ad valorem rates of duty imposed pursuant to that order.

In section 4 of Executive Order 14257, section 5 of Executive Order 14326 of July 31, 2025 (Further Modifying the Reciprocal Tariff Rates), and other Executive Orders issued to address the national emergency declared in Executive Order 14257, I directed various officials to monitor the circumstances involving the emergency declared in Executive Order 14257 and to recommend to me additional action that would more effectively deal with the emergency conditions described in Executive Order 14257. Based on this monitoring, among other things, I have received additional information and recommendations from these officials. After considering the information and recommendations these officials have provided to me, among other things, I have determined that it is necessary and appropriate to modify Annex II to Executive Order 14257 as shown in the updated version of Annex II that is attached to this order. In my judgment, these modifications are necessary and appropriate to deal with the national emergency declared in Executive Order 14257.

Further, in section 4(c) of Executive Order 14257, I noted that I might further decrease or limit in scope the duties imposed under Executive Order 14257, as amended, if any trading partner takes significant steps to remedy non-reciprocal trade arrangements and align sufficiently with the United States on economic and national security matters. Accordingly, I later temporarily suspended the individual ad valorem rate of duty for certain trading partners to reflect the fact that some trading partners had signaled a willingness to undertake meaningful economic and national security commitments with the United States designed to combat the emergency declared in Executive Order 14257. In Executive Order 14326, I noted that certain foreign trading partners had agreed, or were on the verge of agreeing, to meaningful trade and security agreements with the United States, with the conclusion of the agreements to be completed in the future.

In my judgment, it is necessary and appropriate to take steps contemplated in certain current and forthcoming trade and security framework agreements (framework agreements) between a foreign trading partner and the United States. I determine that any modification of tariffs required to implement current and forthcoming framework agreements is necessary and appropriate to deal with the national emergency declared in Executive Order 14257 and to reduce or eliminate the threats to national security found in Proclamation 9704 of March 8, 2018 (Adjusting Imports of Aluminum Into the United States), as amended; Proclamation 9705 of March 8, 2018 (Adjusting Imports of Steel Into the United States), as amended; Proclamation 9888 of May 17, 2019 (Adjusting Imports of Automobiles and Automobile Parts Into the United States), as amended; and Proclamation 10962 of July 30, 2025 (Adjusting Imports of Copper Into the United States). Except in rare circumstances, I will refrain from narrowing the scope of the reciprocal tariff or any relevant section 232 tariff before the conclusion of a final trade and security agreement (final agreement) between the foreign trading partner and the United States.

For example, the United States and the European Union recently announced a landmark “Framework on an Agreement on Reciprocal, Fair, and Balanced Trade” (Framework Agreement). In the joint statement announcing the Framework Agreement, the United States committed to reduce the reciprocal tariff imposed under Executive Order 14257, as amended, on certain products of the European Union to zero percent and to reduce tariffs imposed under section 232 for automobiles and automobile parts originating from the European Union if the European Union takes certain steps. In my judgment, it is necessary and appropriate to implement the tariff modifications described in the Framework Agreement. These modifications are necessary and appropriate to deal with the national emergency declared in Executive Order 14257 and to reduce or eliminate the threat to national security found in Proclamation 9888, as amended.

Similarly, I determine that it is necessary and appropriate to implement the terms of any final agreement between a foreign trading partner and the United States related to the national emergency declared in Executive Order 14257. In my judgment, the modifications required to implement the terms of such a final agreement are necessary and appropriate to deal with the national emergency declared in Executive Order 14257 and to reduce or eliminate the threats to national security I have found pursuant to section 232.

Though I am generally unwilling for framework agreements to narrow the scope of the reciprocal tariffs or modify any relevant section 232 tariff before the conclusion of a final agreement, final agreements with the United States may include such modifications. My willingness to reduce the reciprocal tariff to zero percent for a given import or to modify tariffs imposed under section 232 will depend on numerous factors, including the scope and economic value of a trading partner's commitments to the United States in its agreement on reciprocal trade, the national interests of the United States, the need to deal with the national emergency declared in Executive Order 14257, and the need to reduce or eliminate the threats to national security I have found pursuant to section 232. The list of imports for which I may be willing to provide a zero percent reciprocal tariff rate is set forth in the Annex to this order entitled “Potential Tariff Adjustments for Aligned Partners,” which contains products that cannot be grown, mined, or naturally produced in the United States or grown, mined, or naturally produced in sufficient quantities in the United States to satisfy domestic demand; certain agricultural products; aircraft and aircraft parts; and non-patented articles for use in pharmaceutical applications. Given the complex, fact-specific, and sensitive nature of negotiations and the national emergency declared in Executive Order 14257, among other relevant considerations, the imports that might receive a reciprocal tariff rate of zero percent may be different for each final agreement between a foreign trading partner and the United States.

Sec. 2. Updating Scope of Duties Globally. (a) The updated version of Annex II to Executive Order 14257 is attached to this order and shall be effective with respect to goods entered for consumption, or withdrawn from warehouse for consumption, on or after 12:01 a.m. eastern daylight time 3 days after the date of this order.

(b) The Harmonized Tariff Schedule of the United States (HTSUS) shall be modified as provided in Annex I to this order. These modifications shall enter into effect on the date set forth in Annex I to this order.

Sec. 3. Framework Agreements. (a) Upon the conclusion of any framework agreement of a kind described in section 1 of this order, the Secretary of Commerce and the United States Trade Representative shall determine whether the United States must take any action to implement such framework agreement. Doing so shall include determining whether any condition or conditions to an action by the United States has occurred or will occur before the relevant action by the United States.

(b) If the Secretary of Commerce and the United States Trade Representative determine that an action must be taken to implement a framework agreement pursuant to subsection (a) of this section and that any condition or conditions to such action have occurred or will occur before the relevant action by the United States, the Secretary of Commerce and the United States Trade Representative shall take the necessary and appropriate actions to implement such framework agreement in accordance with this order.

(c) The Secretary of Commerce and the United States Trade Representative shall act in a manner consistent with the national interests of the United States, the purpose of this order, the need to deal with the national emergency declared in Executive Order 14257, and the need to reduce or eliminate the threats to national security I have found pursuant to section 232.

Sec. 4. Final Agreements. (a) Upon the conclusion of any final agreement of a kind described in section 1 of this order, the Secretary of Commerce and the United States Trade Representative shall take the necessary and appropriate actions to implement the final agreement in accordance with this order.

(b) In implementing any final agreement, the Secretary of Commerce and the United States Trade Representative shall act in a manner consistent with the national interests of the United States, the purpose of this order, the need to deal with the national emergency declared in Executive Order 14257, and the need to reduce or eliminate the threats to national security I have found pursuant to section 232.

Sec. 5. Monitoring and Recommendations. (a) The Secretary of Commerce and the United States Trade Representative, in consultation with any officials they deem appropriate, shall continue to monitor the conditions underlying the national emergency declared in Executive Order 14257, including the U.S. trade deficit, the lack of reciprocity in our bilateral trade relationships, disparate tariff rates and non-tariff barriers, U.S. trading partners' economic policies that suppress domestic wages and consumption imports, the strength of our domestic manufacturing base, the strength of our defense industrial base, and any other relevant factors. The Secretary of Commerce and the United States Trade Representative shall, from time to time, update me on the status of these conditions.

(b) The Secretary of Commerce and the United States Trade Representative, in consultation with the Secretary of State, the Secretary of the Treasury, the Secretary of Homeland Security, the Assistant to the President for Economic Policy, the Senior Counselor for Trade and Manufacturing, and the Assistant to the President for National Security Affairs, shall continue to inform me of any circumstance that, in their opinion, might indicate the need for further action and shall continue to recommend to me additional action that, in their opinion, will more effectively deal with the emergency declared in Executive Order 14257.

(c) The Secretary of Commerce and the United States Trade Representative, in consultation with the Secretary of State, the Secretary of the Treasury, the Secretary of Homeland Security, the Assistant to the President for Economic Policy, the Senior Counselor for Trade and Manufacturing, and the Assistant to the President for National Security Affairs, shall advise me of the conclusion of any agreement on reciprocal trade with a particular trading partner.

Sec. 6. Delegation. (a) Consistent with applicable law, the Secretary of Commerce, the Secretary of Homeland Security, and the United States Trade Representative are directed and authorized to take all necessary actions to implement and effectuate this order and any actions taken under section 3 or section 4 of this order—including through temporary suspension or amendment of regulations or through notices in the Federal Register and by adopting rules, regulations, or guidance—and to employ all powers granted to the President, including those granted by IEEPA and section 232, as may be necessary to implement and effectuate this order.

(b) The Secretary of Commerce and the United States Trade Representative, in consultation with the Commissioner of U.S. Customs and Border Protection (CBP), the Chair of the United States International Trade Commission, and any other senior official they deem appropriate, shall determine whether modifications to the HTSUS are necessary to effectuate this order and any actions taken under section 3 or section 4 of this order and may direct such modifications through notice in the Federal Register.

(c) If implementation of a framework agreement or final agreement of a kind described in section 1 of this order requires a refund of duties collected, CBP shall provide the refund to the extent consistent with law. Any refunds shall be processed pursuant to applicable law and CBP's standard procedures for such refunds.

(d) Consistent with applicable law, the Secretary of Commerce, the Secretary of Homeland Security, and the United States Trade Representative may redelegate any of these functions within their respective department or agency.

(e) All executive departments and agencies shall take all appropriate measures within their authority to implement this order.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Commerce.

THE WHITE HOUSE,

September 5, 2025.

Billing code 3510-DT-P

[FR Doc. 2025-17507

Filed 9-9-25; 11:15 am]

Billing code 7020-02-C